DEPARTMENT OF COMMERCE

International Trade Administration

[A-570-018, C-570-019]

Boltless Steel Shelving Units Prepacked for Sale From the People's Republic of China: Rescission of Circumvention Inquiry on the Antidumping Duty and Countervailing Duty Orders

AGENCY: Enforcement and Compliance, International Trade Administration, Department of Commerce.

SUMMARY: Based on a withdrawal of the circumvention inquiry request, the U.S. Department of Commerce (Commerce) is rescinding this circumvention inquiry to determine whether imports of boltless steel shelving units prepackaged for sale (boltless steel shelving), which are completed or assembled in Malaysia using certain components from the People's Republic of China (China), are circumventing the antidumping duty (AD) and countervailing duty (CVD) orders on boltless steel shelving from China.

DATES: Applicable May 10, 2023.

FOR FURTHER INFORMATION CONTACT: Samuel Frost, AD/CVD Operations, Office V, Enforcement and Compliance, International Trade Administration, U.S. Department of Commerce, 1401 Constitution Avenue NW, Washington, DC 20230; telephone: (202) 482-8180.

SUPPLEMENTARY INFORMATION:

Background

On October 21, 2015, Commerce published AD and CVD orders on boltless steel shelving from China.¹ On October 20, 2022, Edsal Manufacturing Company, Inc. (Edsal) filed a circumvention inquiry request alleging that boltless steel shelving completed or assembled in Malaysia using certain components from China and exported to the United States are circumventing the Orders.² On December 9, 2022, Commerce initiated a circumvention inquiry regarding the above-referenced merchandise.³ On April 17, 2023, Edsal withdrew its circumvention inquiry request.⁴

¹ See Boltless Steel Shelving Units Prepackaged for Sale from the People's Republic of China: Antidumping Duty Order, 80 FR 63741 (October 21, 2015); and Boltless Steel Shelving Units Prepackaged for Sale from the People's Republic of China: Amended Final Affirmative Countervailing Duty Determination and Countervailing Duty Order, 80 FR 63745 (October 21, 2015) (collectively, Orders).

² See Edsal's Letter, “Boltless Steel Shelving Units Prepackaged for Sale from China—Petitioner's Request for Circumvention Ruling Pursuant to Section 781(b), as Amended,” dated October 20, 2022.

³ See Boltless Steel Shelving Units Prepackaged for Sale from the People's Republic of China: Initiation of Circumvention Inquiry on the Antidumping Duty and Countervailing Duty Orders, 87 FR 75592 (December 9, 2022) (Initiation Notice), and accompanying Initiation Memorandum.

⁴ See Edsal's Letter, “Petitioner's Withdrawal of Request for Circumvention Ruling Pursuant to Section 781(b) of the Tariff Act of 1930,” dated April 17, 2023.

Scope of the Orders

The merchandise covered by these Orders is boltless steel shelving units prepackaged for sale. For a complete description of the scope, see the Initiation Memorandum.⁵

⁵ See Initiation Notice Initiation Memorandum at 2-3.

Merchandise Subject to the Circumvention Inquiry

This circumvention inquiry covers boltless steel shelving that has been completed or assembled in Malaysia using, at a minimum, the key components of boltless steel shelving, i.e., vertical posts and horizontal beams, from China that are then subsequently exported to the United States.

Rescission of Circumvention Inquiry

As noted above, Edsal has withdrawn its request for a circumvention inquiry on boltless steel shelving completed or assembled in Malaysia using certain components from China and exported to the United States. Therefore, in accordance 19 CFR 351.226(f)(6)(i), Commerce finds that it is appropriate to rescind this circumvention inquiry in its entirety.

Suspension of Liquidation

Pursuant to 19 CFR 351.226(l)(1), Commerce notified U.S. Customs and Border Protection (CBP) of the initiation of this circumvention inquiry and directed CBP to continue the suspension of liquidation of entries of products subject to the circumvention inquiry that were already subject to the suspension of liquidation under the Orders and to apply the cash deposit rate that would be applicable if the products were determined to be covered by the scope of the Orders.⁶ Upon publication of this rescission notice, Commerce will inform CBP that Commerce has rescinded this inquiry and that CBP should continue to suspend entries of boltless steel shelving from China that are subject to the Orders at the applicable rate(s) in effect on the date of entry until specific liquidation instructions are issued.

⁶ See CBP Message 2343414, “Initiation of Circumvention Inquiry—Antidumping/Countervailing Orders on Boltless Steel Shelving Units Prepackaged for Sale from the People's Republic of China (A-570-018/C-570-019),” dated December 9, 2022.

Administrative Protective Order

This notice serves as a final reminder to parties subject to an administrative protective order (APO) of their responsibility concerning the return or destruction of proprietary information disclosed under APO in accordance with 19 CFR 351.305(a)(3), which continues to govern business proprietary information in this segment of the proceeding. Timely written notification of the return or destruction of the APO materials or conversion to judicial protective order is hereby requested. Failure to comply with regulations and terms of an APO is a violation, which is subject to sanction.

Notification to Interested Parties

This notice is issued and published in accordance with section 781 of the Tariff Act of 1930, as amended, and 19 CFR 351.226(f)(6).

Dated: May 4, 2023.
Abdelali Elouaradia,
Deputy Assistant Secretary for Enforcement and Compliance.

[FR Doc. 2023-09946 Filed 5-9-23; 8:45 am]

BILLING CODE 3510-DS-P